ENVIRONMENTAL PROTECTION AGENCY

[ER-FRL-6608-8]

Environmental Impact Statement; Notice of Availability

Responsible Agency: Office of Federal Activities, General Information (202) 564-7167 or www.epa.gov/oeca/ofa. Weekly receipt of Environmental Impact Statements

Filed June 26, 2000 Through June 30, 2000.

Pursuant to 40 CFR 1506.9.

EIS No. 000219, Final EIS, FHW, MO, MO-50/West-Central Corridor Location Study. Transportation Improvements, Sedalia to St. Martins, Pettis, Cooper, Morgan and Moniteau and Cole Counties, MO, Due: August 07, 2000, Contact: Don Neumann (573) 636-7104.

EIS No. 000220, Final EIS, COE, ID, OH, KY, John T. Myers and Greenup Lock Improvements, To Alleviate Commercial Navigation Traffic Congestion, Ohio River Mainstem Systems Study, (ORMSS), Interim Feasibility Report, Indiana, Kentucky and Ohio, Due: August 07, 2000, Contact: Veronica Rife (502) 625-7034.

EIS No. 000221, Draft EIS, BLM, WY, Jack Morrow Hills Coordinated Activity Plan, Implementation, Rock Springs, Portions of Sweetwater, Fremont and Subelette Counties, WY, Due: October 05, 2000, Contact; Renee Dana (307) 352-0256.

EIS No. 000222, Final EIS, NPS, CA, Merced Wild and Scenic River Comprehensive Management Plan, Implementation, Yosemite National Park and the EL Portal Administrative Site, Tuolumne, Merced, Mono, Mariposa and Madera Counties, CA, Due: August 07, 2000, Contact: Alan Schmierer (415) 427-1441.

EIS No. 000223, Draft EIS, COE, CA, Murrieta Creek Flood Control and Protection, Implementation, Riverside County, CA, Due: August 21, 2000, Contact: Timothy Smith (213) 452-3854.

EIS No. 000224, Final EIS, TVA, TN, Tim Ford Reservoir Land Management and Disposition Plan Implementation, Tim Ford Reservoir, Franklin and Moore Counties, TN, Due: August 07, 2000, Contact: Helen Rucker (256) 386-3435.

EIS No. 000225, Draft EIS, COE, CA, Rancho Palos Verdes Restoration Project, Implementation, City of Rancho Palos Verdes, Los Angeles County, CA, Due: August 21, 2000, Contact: Mr. Rey Farve (213) 452-3864.

EIS No. 000226, Final EIS, TVA, TN, Tellico Reservoir Land Management Plan, Implementation of Seven Mainstream and Two Tributary Reservoirs, Blount, Loudon and Monroe, Tn, Due: August 07, 2000, Contact: Cheryl Ward (865) 632-1531.

EIS No. 000227, Final EIS, TVA, MS, Union County Multipurpose Reservoir/Other Water Supply Alternatives Project, To Provide an Adequate and Reliable Water Supply, COE Section 404 Permit and NPDES Permit, City of New Alban, Union County, MS, Due: August 07, 2000, Contact: Charles P. Nicholson (865) 632-3582.

EIS No. 000228, Draft EIS, NPS, CA, Anacapa Island Restoration Project, Implementation Implementation, Channel Islands National Park, Ventura County, CA, Due: September 05, 2000, Contact: Alan Schmierer (415) 427-1441.

EIS No. 000229, Final EIS, FHW, WV, King Coal Highway Project Construction, from the vicinity of Williamson to the vicinity of Bluefield, COE Section 404 Permit, Mango, McDowell Mercer, and Wyoming Counties, WV, Due: August 14, 2000, Contact: Thomas J. Smith (304) 347-5928.

EIS No. 000230, Draft Supplement, NOA, Tortugas Marine Reserves Fishery Management Plans Establishment, in Seven Fisheries in the Gulf of Mexico, Due: August 21, 2000, Contact: James Weaver (727)570-5305.

Amendment Notices

EIS No. 200206, Final EIS, NCP, VA, DC, MD, Adoption—Woodrow Wilson Bridge Replacement, I-95/I-495 From West of Telegraph Road to East of MD Routes 210, City of Alexandria and Fairfax County, VA; Prince George's County, MD and DC, Due: July 31, 2000, Contact: Eugene Keller (202) 482-7251.

U.S. National Capital Planning Commission (NCPC) has adopted certain portion of the Department of Transportation's Federal Highway Administration FEIS #970356 filed 9-5-97 and FSEIS #000127 filed 4-20-00. NCPC was not a Cooperating Agency for the above final EIS. Recirculation of the document Section 1506.3(b) of the Council is necessary under on Environmental Quality Regulations.

Dated: July 3, 2000.
Joseph C. Montgomery,
Director, NEPA Compliance Division, Office of Federal Activities.

[FR Doc. 00-17271 Filed 7-6-00; 8:45 am]

BILLING CODE 6560-50-U